DEPARTMENT OF ENERGY

Proposed Agency Information Collection Submitted for OMB Review and Comment

AGENCY: Department of Energy.

ACTION: Notice and request for OMB review and comment.

SUMMARY: The Department of Energy (DOE) has submitted the proposed collection of information described in this Notice to the Office of Management and Budget (OMB) for review and approval in accordance with the Paperwork Reduction Act of 1995 (44 U.S.C. Chapter 35). These forms will certify to DOE that respondents were advised of the requirements for occupying or continuing to occupy a Human Reliability Program (HRP) position. The HRP is a new program which merges the Personnel Security Assurance Program (PSAP) and the Personnel Assurance Program (PAP) into one DOE human reliability program. The HRP forms will be identical to the OMB approved PSAP forms, just changing the name of the program. In addition to the above, the DOE has requested approval of two new forms, the HRP Certification form and the HRP Alcohol Testing form. The HRP Certification form is used internally to assure that an individual in an HRP position has met all of the annual program requirements. The HRP Alcohol Testing form is identical to the Department of Transportation (DOT) alcohol testing form with the only change being the insertion of the HRP in place of the DOT.

DATES: Comments regarding this collection must be received on or before December 2, 2002. If you anticipate that you will be submitting comments, but find it difficult to do so within the time period allowed by this Notice, please advise the OMB Desk Officer of your intention to make a submission as soon as possible. The Desk Officer may be telephoned at (202) 395-7318. In addition, please notify the DOE contact listed in this Notice.

ADDRESSES: Address comments to the DOE Desk Officer, Office of Information and Regulatory Affairs, Office of Management and Budget, New Executive Office Building, Room 10102, 735 17th Street, NW., Washington, DC 20503. (Comments should also be addressed to Susan L. Frey, Director, Records Management Division [IM-11], Office of Records and Business Management, Office of the Chief Information Officer, U.S. Department of Energy, 1000 Independence Avenue, SW., Washington, DC 20585-1290.

SUPPLEMENTARY INFORMATION: This package contains: (1) OMB No. 1910-1800.

Current and proposed titles are listed below:

Current—Refusal of Consent [for Personnel Security Assurance Program (PSAP)].

New—Refusal of Consent [for Human Reliability Program (HRP)].

Current—Authorization and Consent To Release Personnel Security Assurance Program (PSAP) Records in Connection with PSAP.

New—Authorization and Consent To Release Human Reliability Program (HRP) Records in Connection with HRP.

Current—Acknowledgment and Agreement To Participate in the Personnel Security Assurance Program (PSAP).

New—Acknowledgment and Agreement To Participate in the Human Reliability Program (HRP).

(2) New forms:

U. S. Department of Energy Human Reliability Program (HRP) Certification.

Human Reliability Program (HRP) Alcohol Testing Form (identical to DOT OMB No. 2105-0529).

(3) Purpose: To merge the PSAP and PAP into one Department of Energy Human Reliability Program, therefore, using the already OMB approved forms, just changing the name of the program on the forms. Two new forms are being initiated. One will certify that an individual in an HRP position has met all annual program requirements; and the other follows an identical Department of Transportation Alcohol Testing Form that is approved under OMB Control No. 2105-0529.

(4) Type of Respondents: DOE, management and operating contractors, and offsite contractors.

(5) Estimated Number of Burden Hours: 54,500.

Statutory Authority: Paperwork Reduction Act of 1995, P.L. No. 104-13, U.S.C. section 3507(h)(1).

Issued in Washington, DC on October 25, 2002.
Susan L. Frey,
Director, Records Management Division, Office of Records and Business Management, Office of the Chief Information Officer.

[FR Doc. 02-27802 Filed 10-31-02; 8:45 am]

BILLING CODE 6450-01-P